NATIONAL SCIENCE FOUNDATION

Agency Information Collection Activities; Comment Request; NSF's Science, Engineering, and Education for Sustainability (SEES) Portfolio of Programs Survey; Proposed Information Collection Request

AGENCY: National Science Foundation.

ACTION: Notice.

SUMMARY: The National Science Foundation (NSF) is announcing plans to request establishment and clearance of this collection. In accordance with the requirement of Section 3506(c)(2)(A) of the Paperwork Reduction Act of 1995 (Pub. L. 104-13), we are providing opportunity for public comment on this action. After obtaining and considering public comment, NSF will prepare the submission requesting that OMB approve clearance of this collection for no longer than three years.

A copy of the proposed information collection request (ICR) can be obtained by contacting the office listed below in the ADDRESSES section of this notice.

DATES: Submit comments before July 28, 2015.

ADDRESSES: Suzanne H. Plimpton, Reports Clearance Officer, National Science Foundation, 4201 Wilson Boulevard, Suite 1265, Arlington, Virginia 22230 or send email to splimpto@nsf.gov. Copies of the submission may be obtained by calling (703) 292-7556.

Instructions: Please submit one copy of your comments by only one method. All submissions received must include the agency name and collection name identified above for this information collection. Commenters are strongly encouraged to transmit their comments electronically via email. Comments, including any personal information provided become a matter of public record. They will be summarized and/or included in the request for Office of Management and Budget approval of the information collection request.

FOR FURTHER INFORMATION CONTACT: Suzanne H. Plimpton, Reports Clearance Officer, National Science Foundation, 4201 Wilson Boulevard, Suite 1265, Arlington, Virginia 22230 or send email to splimpto@nsf.gov. Copies of the submission may be obtained by calling (703) 292-7556. Individuals who use a telecommunications device for the deaf (TDD) may call the Federal Information Relay Service (FIRS) at 1-800-877-8339 between 8 a.m. and 8 p.m., Eastern time, Monday through Friday.

SUPPLEMENTARY INFORMATION:

Title of Collection: Survey of Grantees of SEES and Comparable Non-SEES Programs.

OMB Number: 3145-NEW.

Type of request: Intent to seek approval for ICR.

Abstract

In 2010, NSF established the SEES Portfolio as a multi-year effort to coordinate Agency research and education activities related to the environment, energy and sustainability. The overarching goals of the SEES portfolio are to (1) support interdisciplinary research and education that can facilitate the move towards global sustainability; (2) build linkages among existing projects and partners and add new participants in the sustainability research enterprise; and (3) develop a workforce trained in the interdisciplinary scholarship needed to understand and address the complex issues of sustainability.

NSF is supporting an evaluation of the SEES portfolio to determine the extent to which it has achieved its program- and portfolio-level goals. Specifically, the evaluation seeks to measure the output and outcomes of SEES in terms of the development of new knowledge and concepts that advance the overarching goal of a sustainable human future, new and productive connections made between researchers in a range of disciplines, and the development of a workforce capable of meeting sustainability challenges.

This comment request relates to a proposed survey of NSF grant recipients. The survey respondents are principal investigators (PIs) in NSF-funded SEES and comparable non-SEES projects. The survey will collect information on respondents' career pathways, NSF grant activities, and the development of interdisciplinary networks of scholars among researchers.

I. Review Focus

NSF is interested in comments on the practical utility of the survey in view of the project goals and the study approach, the burden on respondents and potential ways to minimize it.

Comments submitted in response to this Notice will be summarized and included in the request for Office of Management and Budget approval of the ICR; they will also become a matter of public record.

II. Current Actions

Affected Public: Grant recipients of NSF SEES and comparable non-SEES Programs.

Total Respondents: 950.

Frequency: One-time collection.

Total responses: 760.

Average Time per response: 45 minutes.

Estimated Total Burden Hours: 576.3 hours.

Dated: May 26, 2015.
Suzanne H. Plimpton,
Reports Clearance Officer, National Science Foundation.

[FR Doc. 2015-13041 Filed 5-28-15; 8:45 am]

BILLING CODE 7555-01-P